ENVIRONMENTAL PROTECTION AGENCY

[EPA-HQ-OAR-2002-0094; FRL-8177-3]

Agency Information Collection Activities: Proposed Collection; Comment Request; Reporting Requirements Under EPA's Climate Leaders Partnership—EPA ICR No. 2100.02; OMB Control No. 2060-0532

AGENCY: Environmental Protection Agency (EPA).

ACTION: Notice.

SUMMARY: In compliance with the Paperwork Reduction Act (44 U.S.C. 3501 et seq.), this document announces that EPA is planning to submit a request to renew an existing approved Information Collection Request (ICR) to the Office of Management and Budget (OMB). This ICR is scheduled to expire on September 30, 2006. Before submitting the ICR to OMB for review and approval, EPA is soliciting comments on specific aspects of the proposed information collection as described below.

DATES: Comments must be submitted on or before July 31, 2006.

ADDRESSES: Submit your comments, referencing docket ID number EPA-HQ-OAR-2002-0094 to (1) EPA online using www.regulations.gov (preferred method), by E-mail to a-and-r-docket@epamail.epa.gov, or by mail to: EPA Docket Center, Environmental Protection Agency, Air and Radiation Docket and Information Center, MC 6102T, 1200 Pennsylvania Avenue, NW., Washington, DC 20460.

Instructions: Direct your comments to Docket ID No. EPA-HQ-OAR-2002-0094. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: James Sullivan, Climate Protection Partnerships Division, Office of Atmospheric Programs, 6202J, Environmental Protection Agency, 1200 Pennsylvania Avenue, NW., Washington, DC 20460; telephone number: (202) 343-9241; fax number: (202) 565-2134; e-mail address sullivan.jamest@epa.gov.

SUPPLEMENTARY INFORMATION: EPA has established a docket for this action under Docket ID No. EPA-HQ-OAR-2002-0094, which is available for online viewing at http://www.regulations.gov, or in person viewing at the Air and Radiation Docket in the EPA Docket Center (EPA/DC), EPA West Building, Room B102, 1301 Constitution Ave., NW., Washington, DC. The EPA/DC Public Reading Room is open from 8 a.m. to 4:30 p.m., Monday through Friday, excluding legal holidays. The telephone number for the Reading Room is 202-566-1744, and the telephone number for the EPA Docket Center is 202-566-1742.

Use http://www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of Paperwork Reduction Act, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected Entities: Entities potentially affected by this action are corporations that voluntarily agree to work with EPA to measure and record their greenhouse gas (GHG) emissions.

Title: Reporting Requirements Under EPA's Climate Leaders Partnership—EPA ICR No. 2100.02.

ICR numbers: EPA ICR No. 2100.02, OMB Control No. 2060-0532.

ICR status: This ICR is currently scheduled to expire on September 30, 2006. An Agency may not conduct or sponsor, and a person is not required to respond to, a collection of information, unless it displays a currently valid OMB control number. The OMB control numbers for EPA's regulations in title 40 of the CFR, after appearing in the Federal Register when approved, are listed in 40 CFR part 9, and included on the related collection instrument or form, if applicable.

Abstract: In an effort to aid implementation of U.S. commitments in the United Nations Framework Convention on Climate Change, the President announced a Climate Change Strategy on February 14, 2002, wherein he set a national U.S. GHG intensity goal of 18 percent by 2012. Part of that strategy challenges companies to set GHG reduction goals by working with EPA through the voluntary Climate Leaders program. EPA has developed this renewal ICR to ensure that the program remains credible by obtaining continued authorization to collect information from Climate Leaders Partners to ensure the Partners are meeting their GHG goals over time. Companies that join Climate Leaders voluntarily agree to the following: Completing and submitting a Partnership Agreement; negotiating a corporate GHG reduction goal; submitting a GHG inventory management plan; participating in an onsite review of the inventory management plan, and reporting to EPA, on an annual basis, the company's GHG emissions inventory, and progress toward their GHG reduction goal via Climate Leaders Annual GHG Inventory Summary and Goal Tracking Form. The information contained in the inventories of the companies that join Climate Leaders may be considered confidential business information and is maintained as such. EPA uses the data obtained from the companies to assess the success of the program in achieving its GHG reduction goals. Responses to the information collection are voluntary.

Burden Statement: The annual public reporting and recordkeeping burden for this (3) three year collection of information is estimated to equal 11,955 hours and to average 94.13 hours per year per respondent. The average number of annual burden hours on first year partners for each type of one-time response is: 9.67 hours to complete and submit a Partnership Agreement, 46.75 hours for documenting and submitting an Inventory Management Plan, 22.25 hours participating in an on-site verification of the Inventory Management Plan, 41 hours for negotiating and setting a GHG reduction goal, 117.5 hours for establishing a base year inventory, and 3.5 hours to submit a company profile that is posted on the Web. For all other partners who have been part of the program for longer than one year, the average number of annual burden hours is 67 hours for verifying and updating the Annual GHG Inventory Summary and Goal Tracking Form one time per year.

Partners may also submit voluntary updates of company profiles or contact information, via the Climate Leaders Web site or e-mail. These updates would take 3 hours per response. All of these activities are included in the annual burden estimate.

The estimated number of annual respondents averaged over three (3) years is 127, which includes an average of 20 first-time respondents and 107 repeat respondents.

There are no capital or start-up costs associated with this information collection. The average annual operation and maintenance cost resulting from this (3) three year collection of information is $3 per respondent. The average annual labor cost is $6,914 per respondent. The resulting total annual cost averaged over the three year period is $878,176.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Are There Changes in the Estimates from the Last Approval?

There is an increase of 6,841 hours in the total estimated respondent burden compared with that identified in the ICR currently approved by OMB. This increase reflects an evolution of the Climate Leader Partnership which has modified the reporting and tracking procedures in order to continue to assess the program's effectiveness. EPA has collaborated with partners to develop these revised reporting requirements, which are better suited for establishing and tracking progress of corporate GHG reduction goals. This change is the result of a more interactive program approach between EPA and Climate Leaders partners and a larger number of partners in the program since the currently approved ICR.

What is the Next Step in the Process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: May 24, 2006.
James T. Sullivan,
EPA Office of Air & Radiation.

[FR Doc. E6-8468 Filed 5-31-06; 8:45 am]

BILLING CODE 6560-50-P